DEPARTMENT OF VETERANS AFFAIRS

38 CFR Part 21

RIN 2900-AR04

Vocational Rehabilitation and Employment (VR&E) Program: Name Change; Correction

AGENCY: Department of Veterans Affairs.

ACTION: Technical amendments.

SUMMARY: On February 16, 2022, the Department of Veterans Affairs (VA) published in the Federal Register a final rule that amended the regulations pertaining to the name of the Vocational Rehabilitation and Employment program to “Veteran Readiness and Employment” (VR&E). VA also amended the title of “Vocational Rehabilitation and Employment Officer” to “Veteran Readiness and Employment Officer” and the position of “Director of Vocational Rehabilitation and Employment” to “Executive Director of Veteran Readiness and Employment”. This correction addresses minor technical errors in the published final rule.

DATES: This correction is effective February 24, 2022.

FOR FURTHER INFORMATION CONTACT: Allison Bernheimer, Policy Analyst, Veteran Readiness and Employment Services (28), 810 Vermont Avenue NW, Washington, DC 20420, allison.bernheimer@va.gov, (202) 461-9600. (This is not a toll-free telephone number.)

SUPPLEMENTARY INFORMATION: VA is amending its final rule 2900-AR04, Vocational Rehabilitation and Employment (VR&E) Program: Name Change, to fix technical errors published on February 16, 2022, in the Federal Register at 87 FR 8740. Specifically, in updating the position title of “Vocational Rehabilitation and Employment Office” to “Veteran Readiness and Employment Officer” and “Director of Vocational Rehabilitation and Employment” to “Executive Director of Veteran Readiness and Employment”. Therefore, VA is issuing these amendments to correct these errors.

List of Subjects in 38 CFR Part 21

Administrative practice and procedure, Armed forces, Civil rights, Claims, Colleges and universities, Conflict of interests, Defense Department, Education, Employment, Grant programs—education, Grant programs—veterans, Health care, Loan programs—education, Loan programs—veterans, Manpower training programs, Reporting and recordkeeping requirements, Schools, Travel and transportation expenses, Veterans, Vocational education, Vocational rehabilitation.

Luvenia Potts,
Regulation Development Coordinator, Office of Regulation Policy & Management, Office of the General Counsel, Department of Veterans Affairs.

For the reasons discussed above, VA corrects 38 CFR part 21 by making the following correcting amendment:

PART 21—VETERAN READINESS AND EMPLOYMENT AND EDUCATION

Subpart C—Survivors' and Dependents' Educational Assistance Under 38 U.S.C. Chapter 35

1. The authority citation for part 21, subpart C, continues to read as follows:

Authority: 38 U.S.C. 501(a), 512, 3500-3566, and as noted in specific sections.

§ 21.3303 [Amended]

2. Amend § 21.3303 in paragraph (a) by:

a. Removing in the second sentence the words “Director, Vocational Rehabilitation and Employment Service” and adding in their place the words “Executive Director, Veteran Readiness and Employment (VR&E) Service”.

b. Removing in the third sentence the words “Director, Vocational Rehabilitation and Employment Service” and adding in their place the words “Executive Director, VR&E Service”.

[FR Doc. 2022-03838 Filed 2-23-22; 8:45 am]

BILLING CODE 8320-01-P